DEPARTMENT OF COMMERCE

International Trade Administration

[A-489-815]

Light-Walled Rectangular Pipe and Tube From Turkey: Preliminary Results of Antidumping Duty Administrative Review; 2019-2020

AGENCY: Enforcement and Compliance, International Trade Administration, Department of Commerce.

SUMMARY: The Department of Commerce (Commerce) preliminarily determines that there were no suspended entries of merchandise subject to the antidumping duty (AD) order on light-walled rectangular pipe and tube (LWRPT) from Turkey during the period May 1, 2019, through April 30, 2020 from any of the companies under review. Interested parties are invited to comment on these preliminary results.

DATES: Applicable April 7, 2021.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On May 28, 2020, domestic interested party Nucor Tubular Products Inc. (Nucor) requested an administrative review of the AD order on LWRPT from Turkey.¹ The period of review (POR) is May 1, 2019, through April 30, 2020. On July 10, 2020, Commerce initiated the requested review with respect to six companies: Cinar Boru Profil Sanayi ve Ticaret A.S., Intermetal International Metal L.L.C., Parker Steel Company, Inc., Parker Steel International, Tata Steel Nederland Tubes BV, and Van Leeuwen Precisie B.V.²

¹ See Nucor's Letter, “Light-Walled Rectangular Pipe and Tube from Turkey: Request for Administrative Review,” dated May 28, 2020.

² See Initiation of Antidumping and Countervailing Duty Administrative Reviews, 85 FR 41540 (July 10, 2020).

Commerce queried U.S. Customs and Border Protection (CBP) data to identify suspended entries of subject merchandise entered, or withdrawn from warehouse, for consumption during the POR from the companies under review. On July 27, 2020, Commerce placed the results of its CBP data query on the record.³ The CBP data show no suspended entries of subject merchandise during the POR associated with the companies under review.⁴ Commerce requested comments from interested parties on the CBP data.⁵ No party commented on the CBP data or on respondent selection.

³ See Memorandum, “Antidumping Duty Administrative Review of Light-Walled Rectangular Pipe and Tube from Turkey: Automated Commercial System Shipment Query,” dated July 27, 2020.

⁴ Id.

⁵ Id.

On November 25, 2020, Nucor alleged that entries of merchandise during the POR that may be subject merchandise were misreported as entries of non-subject merchandise.⁶ Nucor provided information which it believes supports its allegation.⁷ Nucor requested that Commerce forward such information to CBP for further investigation.

⁶ See Nucor's Letter, “Light-Walled Rectangular Pipe and Tube from Turkey: Request to Refer Information to U.S. Customs and Border Protection for Non-Payment of Duties—Submission of Other Factual Information,” dated November 25, 2020.

⁷ Id.

Scope of the Order

The merchandise subject to this order is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this order is currently classified under the Harmonized Tariff Schedule of the United States (HTSUS) subheadings 7306.61.5000 and 7306.61.7060. While HTSUS subheadings are provided for convenience and CBP's customs purposes, our written description of the scope of the order is dispositive.

Methodology

As noted above, CBP data show that there were no suspended entries of subject merchandise during the POR associated with the six companies under review. Section 751(a)(2) of the Tariff Act of 1930, as amended (the Act), instructs Commerce that, when conducting an administrative review, it is to determine the dumping margin for entries during the relevant period and establish a revised cash deposit rate for estimated antidumping duties for future entries of subject merchandise. Given that the evidence shows that there are no suspended entries of subject merchandise during the POR from the six companies under review, we have not calculated or otherwise determined a weighted-average dumping margin or revised the cash deposit rate for these six companies in this administrative review.

Allegation of Misreported Entries

Nucor has alleged that certain merchandise from companies under review that was entered into the United States during the POR was misreported to CBP as non-subject merchandise when it may be subject merchandise. Nucor requested that Commerce refer this matter, and the evidence that it provided in support of its claim, to CBP for investigation.

Commerce is committed to preventing the evasion of antidumping duties and takes allegations, such as the one made by Nucor, seriously. The issue raised by Nucor falls within the jurisdiction of CBP and is best addressed by CBP.⁸ Consequently, concurrent with this notice, we have referred this allegation of potential misclassification and/or fraud to CBP with the supporting evidence provided by Nucor.

⁸ See Globe Metallurgical Inc., v. United States, 722 F. Supp. 2d 1372, 1381 (CIT 2010).

Preliminary Results of Review

Commerce has not calculated a weighted-average dumping margin for any of the six companies for which this review was initiated because there are no suspended entries of subject merchandise during the POR for these six companies.

Disclosure and Public Comment

Because Commerce has not calculated weighted-average dumping margins for these preliminary results, there are no calculations to disclose to interested parties.

Interested parties are invited to comment on these preliminary results of the review. Pursuant to 19 CFR 351.309(c)(1)(ii), interested parties may submit case briefs no later than 30 days after the date of publication of this notice in the Federal Register. Rebuttal briefs, limited to issues raised in the case briefs, may be filed no later than seven days after the time limit for filing case briefs.⁹ Parties who submit case briefs or rebuttal briefs in this proceeding are requested to submit with each brief: (1) A statement of the issue, (2) a brief summary of the argument, and (3) a table of authorities.¹⁰ Executive summaries should be limited to five pages total, including footnotes.¹¹ Case and rebuttal briefs should be filed using Enforcement and Compliance's Antidumping and Countervailing Duty Centralized Electronic Service System (ACCESS).¹² Note that Commerce has temporarily modified certain of its requirements for serving documents containing business proprietary information until further notice.¹³

⁹ See 19 CFR 351.309(d)(1); see also Temporary Rule Modifying AD/CVD Service Requirements Due to COVID-19; Extension of Effective Period, 85 FR 41363 (July 10, 2020) (Temporary Rule).

¹⁰ See 19 CFR 351.309(c)(2) and (d)(2).

¹¹ Id.

¹² See 19 CFR 351.303.

¹³ See Temporary Rule.

Pursuant to 19 CFR 351.310(c), any interested party may request a hearing within 30 days of the date of publication of this notice in the Federal Register. Interested parties who wish to request a hearing must submit a written request to the Assistant Secretary for Enforcement and Compliance, filed electronically via ACCESS, by the deadline noted above. If a hearing is requested, Commerce will notify interested parties of the hearing date and time. Requests for a hearing should contain: (1) The requesting party's name, address, and telephone number; (2) the number of individuals from the requesting party's firm that will attend the hearing; and (3) a list of the issues the party intends to discuss at the hearing. Issues raised in the hearing will be limited to those issues raised in the respective case and rebuttal briefs.

Unless we extend the deadline for the final results of this review, we intend to issue the final results of this administrative review, including the results of our analysis of issues raised by the parties in their briefs, within 120 days of the date of publication of this notice in the Federal Register.¹⁴

¹⁴ See section 751(a)(3)(A) of the Act; and 19 CFR 351.213(h)(1).

Assessment

Upon issuance of the final results, Commerce will determine, and CBP shall assess, antidumping duties on all appropriate entries in accordance with 19 CFR 351.212(b)(1). For any entries found to be associated with the six companies under review, we will instruct CBP to liquidate such entries at the all-others rate if there is no rate for the intermediate company(ies) involved in the transaction, consistent with Commerce's reseller policy.¹⁵

¹⁵ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all entries of LWRPT from Turkey entered, or withdrawn from warehouse, for consumption on or after the date of publication of the notice of the final results of this administrative review, as provided for by section 751(a)(2)(C) of the Act: (1) The cash deposit rate for the six companies under review will continue to be equal to the company-specific weighted-average dumping margin established for each company in the most recently completed segment of this proceeding (except, if the rate is de minimis, i.e., less than 0.5 percent, then the cash deposit will be zero percent) or, if a company-specific weighted-average dumping margin has not been established for the company, the cash deposit rate will continue to be equal to the all-others rate; (2) for merchandise exported by a company not covered in this review but covered in a prior completed segment of the proceeding, the cash deposit rate will continue to be the company-specific rate published for that company in the most recently completed segment of this proceeding in which the company was included; (3) if the exporter of the subject merchandise does not have its own rate but the producer has its own rate, the cash deposit rate will be the rate established in the most recently completed segment of the proceeding for the producer of the subject merchandise; and (4) the cash deposit rate for all other producers or exporters will continue to be 27.04 percent, the all-others rate established in the less-than-fair-value investigation.¹⁶

¹⁶ See Notice of Final Determination of Sales at Less Than Fair Value: Light-Walled Rectangular Pipe and Tube from Turkey, 73 FR 19814 (April 11, 2008).

These cash deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act, and 19 CFR 351.213(h)(1).

Dated: April 1, 2021.
Christian Marsh,
Acting Assistant Secretary for Enforcement and Compliance.

[FR Doc. 2021-07171 Filed 4-6-21; 8:45 am]

BILLING CODE 3510-DS-P